FEDERAL COMMUNICATIONS COMMISSION

47 CFR Part 73

[DA 05-33; MB Docket No. 04-367, RM-11070]

Radio Broadcasting Service; Genoa and Security CO

AGENCY: Federal Communications Commission.

ACTION: Final rule.

SUMMARY: The Audio Division, at the request of Optima Communications, Inc., substitutes Channel 288C2 for Channel 288C3 at Security, Colorado and modifies Station KSKX(FM)'s license accordingly. To accommodate the upgrade, we also substitute Channel 291C3 for vacant Channel 288C3 at Genoa, Colorado. See 69 FR 60605, published October 12, 2004. Channel 288C2 can be allotted to Security in compliance with the Commission's minimum distance separation requirements, provided there is a site restriction of 16.12 kilometers (10 miles) southwest of the community at coordinates 38-37-30 North Latitude and 104-49-00 West Longitude. Channel 291C3 can be allotted to Genoa with a site restriction of 18.4 kilometers (11.4 miles) east of the community at coordinates 39-15-35 North Latitude and 103-17-15 West Longitude.

DATES: Effective February 25, 2005. A filing window for Channel 291C3 at Genoa, Colorado will not be opened at this time. Instead, the issue of opening a filing window for this channel will be addressed by the Commission in a subsequent order.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 04-367, adopted January 5, 2005, and released January 10, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the General Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Colorado, is amended by removing Channel 288C3 and by adding Channel 291C3 at Genoa, and by removing Channel 288C3 and by adding Channel 288C2 at Security.

Federal Communications Commission.
John A. Karousos,
Assistant Chief, Audio Division, Media Bureau.

[FR Doc. 05-1367 Filed 1-25-05; 8:45 am]

BILLING CODE 6712-01-P